DEPARTMENT OF AGRICULTURE

Submission for OMB Review; Comment Request

March 20, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Wood Education and Resource Center Training Registry.

OMB Control Number: 0596-NEW.

Summary of Collection: The USDA Forest Service is developing an online training information system. The Wood Education Resource Center Training Information System is designed to provide a service to trainers and trainees associated with the primary and secondary forest products industry. It will enable the trainees to locate continuing education training opportunities that will meet the criteria they have established. Providing such training will enhance opportunities for the industry, while helping keep the industry competitive in the world market.

Need and Use of the Information: Collection is voluntary and is conducted for the benefit of the users of the website. Making the information available expedites and encourages learning opportunities for members of the timber industry. Trainers will use this site to register training and promote continuing education within the wood products industry. Upon registration, trainees will be able to access the database to find information about training programs, workshops, and short courses that meet the needs of wood products companies and employees. Trainees will be able to search and save information regarding training courses of interests and create a training profile that will automatically match the trainee to courses.

Description of Respondents: Individuals or households; Businesses or other for-profits; Not-for-profit Institutions.

Number of Respondents: 3,325.

Frequency of Responses: Reporting: On occasion.

Total Burden Hours: 3,502

Charlene Parker,
Departmental Information Collection Clearance Officer.

[FR Doc. E8-6087 Filed 3-25-08; 8:45 am]

BILLING CODE 3410-11-P